EXPORT-IMPORT BANK OF THE UNITED STATES

Sunshine Act Meeting

ACTION: Notice an of open meeting of the Board of Directors of the Export-Import Bank of the United States.

Time and Place: Thursday, March 2, 2006 at 1:30 p.m. The meeting will be held at Ex-Im Bank in Room 1143, 811 Vermont Avenue, NW., Washington, DC 20571.

Open Agenda Item: Small Business Committee.

Public Participation: The meeting will be open to public participation.

FOR FURTHER INFORMATION CONTACT: Office of the Secretary, 811 Vermont Avenue, NW., Washington, DC 20571 (Tele. No. 202-565-3957).

Howard A. Schweitzer,
General Counsel (Acting).

[FR Doc. 06-1925 Filed 2-24-06; 3:58 pm]

BILLING CODE 6690-01-M